DEPARTMENT OF COMMERCE

National Oceanic and Atmospheric Administration

50 CFR Part 216

Regulations Governing the Taking and Importing of Marine Mammals

CFR Correction

In Title 50 of the Code of Federal Regulations, parts 200 to 599, revised as of October 1, 2000, Part 216 is corrected by removing Subpart N (§ § 216.151 through 216.157).

[FR Doc. 01-55515 Filed 5-2-01; 8:45 am]

BILLING CODE 1505-01-D